DEPARTMENT OF TRANSPORTATION

Federal Aviation Administration

14 CFR Part 39

[Docket No. FAA-2023-2397; Project Identifier MCAI-2023-00601-T]

RIN 2120-AA64

Airworthiness Directives; Bombardier, Inc., Airplanes

AGENCY: Federal Aviation Administration (FAA), DOT.

ACTION: Notice of proposed rulemaking (NPRM).

SUMMARY: The FAA proposes to adopt a new airworthiness directive (AD) for certain Bombardier, Inc., Model BD-700-1A10 and BD-700-1A11 airplanes. This proposed AD was prompted by the discovery that existing maintenance tasks do not detect the potential failure of the passenger door detent mechanism because there is no procedure for inspecting the passenger door locking mechanism. This proposed AD would require revising the maintenance or inspection program, as applicable, to require use of a certain aircraft maintenance manual (AMM) task during accomplishment of a specified maintenance check. The FAA is proposing this AD to address the unsafe condition on these products.

DATES: The FAA must receive comments on this proposed AD by February 5, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

Material for Incorporation by Reference: For service information identified in this AD, contact Bombardier Business Aircraft Customer Response Center, 400 Côte-Vertu Road West, Dorval, Québec H4S 1Y9, Canada; telephone 514-855-2999; email ac.yul@aero.bombardier.com; website bombardier.com.

AD Docket: You may examine the AD docket at regulations.gov under Docket No. FAA-2023-2397; or in person at Docket Operations between 9 a.m. and 5 p.m., Monday through Friday, except Federal holidays. The AD docket contains this NPRM, the mandatory continuing airworthiness information (MCAI), any comments received, and other information. The street address for Docket Operations is listed above.

FOR FURTHER INFORMATION CONTACT: Gabriel Kim, Aviation Safety Engineer, FAA, 1600 Stewart Avenue, Suite 410, Westbury, NY 11590; telephone 516-228-7300; email 9-avs-nyaco-cos@faa.gov.

SUPPLEMENTARY INFORMATION:

Comments Invited

The FAA invites you to send any written relevant data, views, or arguments about this proposal. Send your comments to an address listed under ADDRESSES. Include “Docket No. FAA-2023-2397; Project Identifier MCAI-2023-00601-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Gabriel Kim, Aviation Safety Engineer, FAA, 1600 Stewart Avenue, Suite 410, Westbury, NY 11590; telephone 516-228-7300; email 9-avs-nyaco-cos@faa.gov. Any commentary that the FAA receives which is not specifically designated as CBI will be placed in the public docket for this rulemaking.

Background

Transport Canada, which is the aviation authority for Canada, has issued Transport Canada AD CF-2023-25, dated April 13, 2023 (Transport Canada AD CF-2023-25) (also referred to after this as the MCAI), to correct an unsafe condition on certain Bombardier, Inc., Model BD-700-1A10 and BD-700-1A11 airplanes. The MCAI states time limited maintenance check (TLMC) item 52-11-00-201, “Passenger Door Mechanism Functional Test,” does not detect potential failure of the passenger door detent mechanism. Associated aircraft maintenance manual (AMM) task 52-11-00-720-801, “Passenger Door Mechanism Functional Test,” does not provide a procedure for inspecting the passenger door locking mechanism.

The FAA is proposing this AD to address potential failures of the uninspected detents (external handle detent and torque tube detent) in combination with a failure of the tension pot spring assembly. The unsafe condition, if not addressed, could result in the main passenger door opening during unpressurized flight.

You may examine the MCAI in the AD docket at regulations.gov under Docket No. FAA-2023-2397.

Related Service Information Under 1 CFR Part 51

The FAA reviewed the following documents.

• Task 52-11-00-720-801, Bombardier Global Express Aircraft Maintenance Manual, Part Two—Publication No. BD-700 AMM, Revision 97, dated March 30, 2023. (For obtaining the task for Bombardier Global Express AMM, Part Two—Publication No. BD-700 AMM, use Document Identification No. GL 700 AMM.)

• Task 52-11-00-720-801, Bombardier Global 5000 Aircraft Maintenance Manual, Part Two—Publication No. BD-700 AMM, Revision 78, dated March 30, 2023. (For obtaining the task for Bombardier Global 5000 AMM, Part Two—Publication No. BD-700 AMM, use Document Identification No. GL 5000 AMM.)

• Task 52-11-00-720-801, Bombardier Global 5000 Aircraft Maintenance Manual—Part Two—Publication No. GL 5000 GVFD AMM, Revision 45, dated March 30, 2023.

• Task 52-11-00-720-801, Bombardier Global 5500 Aircraft Maintenance Manual—Part Two—Publication No. GL 5500 AMM, Revision 14, dated March 30, 2023.

• Task 52-11-00-720-801, Bombardier Global 6000 Aircraft Maintenance Manual—Part Two—Publication No. GL 6000 AMM, Revision 46, dated March 30, 2023.

• Task 52-11-00-720-801, Bombardier Global 6500 Aircraft Maintenance Manual—Part Two—Publication No. GL 6500 AMM, Revision 15, dated March 30, 2023.

• Task 52-11-00-720-801, Bombardier Global Express XRS Aircraft Maintenance Manual—Part Two—Publication No. BD-700 XRS AMM, Revision 75, dated March 30, 2023. (For obtaining the task for Bombardier Global Express XRS AMM, Part Two—Publication No. BD-700 XRS AMM, use Document Identification No. GL XRS AMM.)

This service information specifies new inspection instructions for the passenger door detent mechanisms.

This service information is reasonably available because the interested parties have access to it through their normal course of business or by the means identified in ADDRESSES.

FAA's Determination

This product has been approved by the aviation authority of another country, and is approved for operation in the United States. Pursuant to the FAA's bilateral agreement with this State of Design Authority, it has notified the FAA of the unsafe condition described in the MCAI and service information referenced above. The FAA is issuing this NPRM after determining that the unsafe condition described previously is likely to exist or develop on other products of the same type design.

Proposed AD Requirements in This NPRM

This proposed AD would require the use of AMM Task 52-11-00-720-801, dated August 16, 2022, during accomplishment of TLMC Item 52-11-00-201. It also prohibits using AMM Task 52-11-00-720-801, dated 19 May 2022 or earlier.

Costs of Compliance

The FAA estimates that this AD, if adopted as proposed, would affect 482 airplanes of U.S. registry. The FAA estimates the following costs to comply with this proposed AD:

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bombardier, Inc.: Docket No. FAA-2023-2397; Project Identifier MCAI-2023-00601-T.

(a) Comments Due Date

The FAA must receive comments on this airworthiness directive (AD) by February 5, 2024.

(b) Affected ADs

None.

(c) Applicability

This AD applies to Bombardier, Inc., Model BD-700-1A10 and BD-700-1A11 airplanes, certificated in any category, serial numbers (S/Ns) 9002 through 60065 inclusive.

(d) Subject

Air Transport Association (ATA) of America Code 52, Doors.

(e) Unsafe Condition

This AD was prompted by the discovery that existing maintenance tasks do not detect the potential failure of the passenger door detent mechanism because there is no procedure for inspecting the passenger door locking mechanism. The FAA is proposing this AD to address potential failures of the uninspected detents (external handle detent and torque tube detent) in combination with a failure of the tension pot spring assembly. The unsafe condition, if not addressed, could result in the main passenger door opening during unpressurized flight.

(f) Compliance

Comply with this AD within the compliance times specified, unless already done.

(g) Maintenance or Inspection Program Task Restrictions

Within 30 days after the effective date of this AD, revise the existing maintenance or inspection program, as applicable, to use Aircraft Maintenance Manual (AMM) Task 52-11-00-720-801, “Functional Test of the Passenger Door Mechanism,” as specified in the applicable AMMs identified in figure 1 to paragraph (g) of this AD, when performing time limited maintenance check item 52-11-00-201.

Figure 1 to Paragraph (g)—Bombardier AMM
Airplane model | Bombardier AMM
BD-700-1A10 | Bombardier Global Express Aircraft Maintenance Manual—Part Two, Publication No. BD-700 AMM, Revision 97, dated March 30, 2023.
BD-700-1A11 | Bombardier Global 5000 Aircraft Maintenance Manual—Part Two, Publication No. BD-700 AMM, Revision 78, dated March 30, 2023.
BD-700-1A11 | Bombardier Global 5000 Aircraft Maintenance Manual—Part Two, Publication No. GL 5000 GVFD AMM, Revision 45, dated March 30, 2023.
BD-700-1A11 | Bombardier Global 5500 Aircraft Maintenance Manual—Part Two, Publication No. GL 5500 AMM, Revision 14, dated March 30, 2023.
BD-700-1A10 | Bombardier Global 6000 Aircraft Maintenance Manual—Part Two, Publication No. GL 6000 AMM, Revision 46, dated March 30, 2023.
BD-700-1A10 | Bombardier Global 6500 Aircraft Maintenance Manual—Part Two, Publication No. GL 6500 AMM, Revision 15, dated March 30, 2023.
BD-700-1A10 | Bombardier Global Express XRS Aircraft Maintenance Manual—Part Two, Publication No. BD-700 XRS AMM, Revision 75, dated March 30, 2023.

(h) AMM Revision Prohibition

After revising the maintenance or inspection program as required by paragraph (g) of this AD, it is prohibited to use AMM Task 52-11-00-720-801, dated May 19, 2022, or earlier.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j)(2) of this AD. Information may be emailed to: 9-AVS-NYACO-COS@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada or Bombardier, Inc.'s Transport Canada Design Approval Organization (DAO). If approved by the DAO, the approval must include the DAO-authorized signature.

(j) Additional Information

(1) Refer to Transport Canada AD CF-2023-25, dated April 13, 2023, for related information. This Transport Canada AD may be found in the AD docket at regulations.gov under Docket No. FAA-2023-2397.

(2) For more information about this AD, contact Gabriel Kim, Aviation Safety Engineer, FAA, 1600 Stewart Avenue, Suite 410, Westbury, NY 11590; telephone 516-228-7300; email 9-avs-nyaco-cos@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Task 52-11-00-720-801, “Functional Test of the Passenger Door Mechanism,” of Part 2, Bombardier Global 5000 Aircraft Maintenance Manual, Part Two—Publication No. BD-700 AMM, Revision 78, dated March 30, 2023. (For obtaining the task for Bombardier Global 5000 AMM, Part Two—Publication No. BD-700 AMM, use Document Identification No. GL 5000 AMM.)

(ii) Task 52-11-00-720-801, “Functional Test of the Passenger Door Mechanism,” of Part 2, Bombardier Global 5000 Aircraft Maintenance Manual—Part Two—Publication No. GL 5000 GVFD AMM, Revision 45, dated March 30, 2023.

(iii) Task 52-11-00-720-801, “Functional Test of the Passenger Door Mechanism,” of Part 2, Bombardier Global 5500 Aircraft Maintenance Manual—Part Two—Publication No. GL 5500 AMM, Revision 14, dated March 30, 2023.

(iv) Task 52-11-00-720-801, “Functional Test of the Passenger Door Mechanism,” of Part 2, Bombardier Global 6000 Aircraft Maintenance Manual—Part Two—Publication No. GL 6000 AMM, Revision 46, dated March 30, 2023.

(v) Task 52-11-00-720-801, “Functional Test of the Passenger Door Mechanism,” of Part 2, Bombardier Global 6500 Aircraft Maintenance Manual—Part Two—Publication No. GL 6500 AMM, Revision 15, dated March 30, 2023.

(vi) Task 52-11-00-720-801, “Functional Test of the Passenger Door Mechanism,” of Part 2, Bombardier Global Express Aircraft Maintenance Manual, Part Two—Publication No. BD-700 AMM, Revision 97, dated March 30, 2023. (For obtaining the task for Bombardier Global Express AMM, Part Two—Publication No. BD-700 AMM, use Document Identification No. GL 700 AMM.)

(vii) Task 52-11-00-720-801, “Functional Test of the Passenger Door Mechanism,” of Part 2, Bombardier Global Express XRS Aircraft Maintenance Manual—Part Two—Publication No. BD-700 XRS AMM, Revision 75, dated March 30, 2023. (For obtaining the task for Bombardier Global Express XRS AMM, Part Two—Publication No. BD-700 XRS AMM, use Document Identification No. GL XRS AMM.)

(3) For service information identified in this AD, contact Bombardier Business Aircraft Customer Response Center, 400 Côte-Vertu Road West, Dorval, Québec H4S 1Y9, Canada; telephone 514-855-2999; email ac.yul@aero.bombardier.com; website bombardier.com.

(4) You may view this service information at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on December 14, 2023.
Victor Wicklund,
Deputy Director, Compliance & Airworthiness Division, Aircraft Certification Service.

[FR Doc. 2023-28003 Filed 12-21-23; 8:45 am]

BILLING CODE 4910-13-P